FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202) 523-5793 or tradeanalysis@fmc.gov.

Agreement No.: 012088.

Title: Hanjin and WHS Transpacific Vessel Sharing and Slot Allocation Agreement.

Parties: Hanjin Shipping Co., Ltd. and Wan Hai Lines (Singapore) PTE, Ltd.

Filing Party: Robert B. Yoshitomi, Esq.; Nixon Peabody LLP; Gas Company Tower; 555 West Fifth Street, 46th Floor; Los Angeles, CA 90013.

Synopsis: The agreement authorizes the parties to share vessel space in the trade between the U.S. ports and ports in Malaysia, Vietnam, Japan, Korea, People's Republic of China, Hong Kong, Taiwan, and Republic of Singapore.

By Order of the Federal Maritime Commission.
Dated: December 31, 2009.
Tanga S. FitzGibbon,
Assistant Secretary.

[FR Doc. E9-31371 Filed 1-4-10; 8:45 am]

BILLING CODE 6730-01-P